COMMITTEE FOR PURCHASE FROM PEOPLE WHO ARE BLIND OR SEVERELY DISABLED

Procurement List; additions and deletions

AGENCY: Committee for Purchase from People Who Are Blind or Severely Disabled.

ACTION: Additions to and deletions from procurement list.

SUMMARY: This action adds to the Procurement List services to be furnished by nonprofit agencies employing persons who are blind or have other severe disabilities, and deletes from the Procurement List products previously furnished by such agencies.

EFFECTIVE DATE: March 16, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On December 6, and December 20, 2002, the Committee for Purchase From People Who Are Blind or Severely Disabled published notice (67 FR 72640, and 77962) of proposed additions to the Procurement List.

After consideration of the material presented to it concerning capability of qualified nonprofit agencies to provide the services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

Accordingly, the following services are added to the Procurement List:

Services

Service Type/Location: Administrative Services, National Park Service, Harpers Ferry Center, Harpers Ferry, West Virginia.

NPA: Hagerstown Goodwill Industries, Inc., Hagerstown, Maryland.

Contract Activity: National Park Service, Harpers Ferry, West Virginia.

Service Type/Location: Facilities Maintenance, Greater Louisville Technology Park, Port Hueneme Detachment & Navy, Caretaker Site Office, Louisville, Kentucky.

NPA: Employment Source, Inc., Fayetteville, North Carolina.

Contract Activity: Naval Surface Warfare Center, Crane, Indiana.

Service Type/Location: Janitorial/Custodial, 183rd Fighter Wing Air National Guard, Capitol Airport, Springfield, Illinois.

NPA: Challenge Unlimited, Inc., Alton, Illinois.

Contract Activity: 183rd Fighter Wing/Air National Guard, Springfield, Illinois.

Service Type/Location: Janitorial/Custodial, U.S. Army Reserve Center, Columbus, Ohio.

NPA: Licking-Knox Goodwill Industries, Inc., Newark, Ohio.

Contract Activity: Headquarters, 88th Regional Support Command, Fort Snelling, Minnesota.

Service Type/Location: Janitorial/Custodial, U.S. Geological Survey Upper Midwest Environmental Science Center, La Crosse, Wisconsin.

NPA: Riverfront Activity Center, Inc., La Crosse, Wisconsin.

Contract Activity: U.S. Geological Survey, Reston, Virginia.

Deletions

I certify that the following action will not have a significant impact on a substantial number of small entities. The major factors considered for this certification were:

1. The action may not result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are deleted from the Procurement List:

Products

Product/NSN: Pallet, P.S., Material Handling

3990-00-NSH-0008.

NPA: Handi-Shop Industries, Inc., Tomah, Wisconsin.

Contract Activity: U.S. Postal Service, Western Area Supply Center, Topeka, Kansas.

Product/NSN: Pallet, Wood

3990-00-NSH-0072.

NPA: Handi-Shop Industries, Inc., Tomah, Wisconsin.

Contract Activity: Federal Prison Industries, Dept. of Justice.

Sheryl D. Kennerly,
Director, Information Management.

[FR Doc. 03-3731 Filed 2-13-03; 8:45 am]

BILLING CODE 6353-01-P